ENVIRONMENTAL PROTECTION AGENCY

[FRL-9945-70-OA]

Farm, Ranch, and Rural Communities Committee

AGENCY: Environmental Protection Agency (EPA).

ACTION: Notice of meeting.

SUMMARY: Under the Federal Advisory Committee Act, Public Law 92-463, the Environmental Protection Agency (EPA) gives notice of a meeting of the Farm, Ranch, and Rural Communities Committee (FRRCC). The FRRCC is a policy-oriented committee that provides policy advice, information, and recommendations to the EPA Administrator on a range of environmental issues and policies that are of importance to agriculture and rural communities.

The purpose of this meeting is to draft and review recommendations regarding how EPA can best create a framework for facilitating collaborative and innovative partnerships, building upon existing resource protection efforts to promote soil health, particularly as it relates to water and air and to adaptation of a changing climate.

DATES: The Farm, Ranch, and Rural Communities Committee will hold an open meeting on Wednesday, May 25, 2016, from 9:00 a.m. until 5:30 p.m. and Thursday, May 26, 2016 from 9:00 a.m. until 5:00 p.m. Eastern Standard Time.

ADDRESSES: The meeting will be held at EPA One Potomac Yard, 2777 Crystal Dr., Arlington VA, 22202, Room 4370/80 fourth floor. The meeting is open to the public, with limited seating on a first-come, first-served basis.

FOR FURTHER INFORMATION CONTACT: Donna Perla, Acting Designated Federal Officer, perla.donna@epa.gov, 202-564-0184, U.S. EPA, Office of the Administrator (1101A), Room 2415, 1200 Pennsylvania Avenue NW., Washington, DC 20460.

SUPPLEMENTARY INFORMATION: Requests to make brief oral comments or provide written statements to the FRRCC should be sent to Donna Perla, Acting Designated Federal Officer, at the contact information above. All requests must be submitted no later than May 18, 2016, at the contact information above.

Meeting Access: For information on access or services for individuals with disabilities, please contact Donna Perla at 202-564-0184 or perla.donna@epa.gov. To request accommodation of a disability, please contact Donna Perla, preferably at least 10 days prior to the meeting, to give EPA as much time as possible to process your request.

Dated: April 19, 2016.
Donna Perla,
Acting Designated Federal Officer.

[FR Doc. 2016-09733 Filed 4-25-16; 8:45 am]

BILLING CODE 6560-50-P